DEPARTMENT OF TRANSPORTATION

Federal Aviation Administration

Notice of Intent To Rule on Application 02-04-C-00-MDT To Use, and Impose and Use the Revenue From a Passenger Facility Charge (PFC) at Harrisburg International Airport, Middletown, PA

AGENCY: Federal Aviation Administration (FAA), DOT.

ACTION: Notice of intent to rule on application.

SUMMARY: The FAA proposes to rule and invites public comment on the application to use, and impose and use the revenue from a PFC at Harrisburg International Airport under the provisions of the Aviation Safety and Capacity Expansion Act of 1990 (Title IX of the Omnibus Budget Reconciliation Act of 1990) (Pub. L. 101-508) and part 158 of the Federal Aviation Regulations (14 CFR part 158).

DATES: Comments must be received on or before October 10, 2002.

ADDRESSES: Comments on this application may be mailed or delivered in triplicate to the FAA at the following address: Ms. Sharon/Dabion/Manager HAR-ADO, FAA, Airports District Office, 3905 Hartzdale Drive, Suite 508, Camp Hill, PA 17011.

In addition, one copy of any comments submitted to the FAA must be mailed or delivered to David Holdsworth, Deputy Director of Administration and Finance of the Susquehanna Area Regional Airport Authority at the following address: Harrisburg International Airport, 208 Airport Drive, Middletown, Pennsylvania 17057.

Air carriers and foreign air carriers may submit copies of written comments previously provided to the Susquehanna Area Regional Airport Authority under section 158.23 of part 158.

FOR FURTHER INFORMATION CONTACT: Lori Ledebohm/Planner, Airports District Office, 3905 Hartzdale Drive, Suite 508 Camp Hill, PA 17011, 717-730-2835. The application may be reviewed in Person at this same location.

SUPPLEMENTARY INFORMATION: The FAA proposes to rule and invites public comment on the application to use, and impose and use the revenue from a PFC at Harrisburg International Airport under the provisions of the Aviation Safety and Capacity Expansion Act of 1990 (Title IX of the Omnibus Budget Reconciliation Act of 1990) (Pub. L. 101-508) and part 158 of the Federal Aviation Regulations (14 CFR part 158).

On August 23, 2002, the FAA determined that the application to use, and impose and use the revenue from a PFC submitted by Susquehanna Area Regional Airport Authority was substantially complete within the requirements of § 158.25 of part 158. The FAA will approve or disapprove the application, in whole or in part, not later than November 22, 2002.

The following is a brief overview of the application.

PFC Application No.: 02-04-C-00-MDT.

Level of the proposed PFC: $4.50.

Proposed charge effective date: December 1, 2002.

Proposed charge expiration date: June 30, 2020.

Total estimated PFC revenue: $66,334,500.

Brief description of proposed projects:

—Construct Parallel Taxiway, Taxilanes, Lighting and Related Work

—Navaids and Runway Lighting

—Construct Terminal and Related Work

—PFC Application Development

The following approved to impose PFC revenue and is seeking authority to use PFC revenue:

—Construct Terminal Loop Road

Class or classes of air carriers which the public agency has requested to be required to collect PFCs: Nonscheduled/On-Demand Air Carriers.

Any person may inspect the application in person at the FAA office listed above under FOR FURTHER INFORMATION CONTACT and at the FAA Regional Airports Office located at: Eastern Region, Airports Division, AEA-610, 1 Aviation Plaza, Jamaica, New York 11434.

In addition, any person may, upon request, inspect the application, notice and other documents germane to the application in person at the Susquehanna Area Regional Airport Authority Office.

Issued in Jamaica, New York on August 30, 2002.
Eleanor Schifflin,
PFC Program Manager, Eastern Region.

[FR Doc. 02-22942 Filed 9-9-02; 8:45 am]

BILLING CODE 4910-13-M